DEPARTMENT OF VETERANS AFFAIRS

[OMB Control No. 2900-0665]

Agency Information Collection Activity Under OMB Review: Direct Deposit Enrollment/Change

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0665.”

FOR FURTHER INFORMATION CONTACT: Maribel Aponte, Office of Enterprise and Integration, Data Governance Analytics (008), 1717 H Street NW, Washington, DC 20006, (202) 266-4688 or email maribel.aponte@va.gov. Please refer to “OMB Control No. 2900-0665” in any correspondence.

SUPPLEMENTARY INFORMATION:

Authority: 44 U.S.C. 3501-21.

Title: Direct Deposit Enrollment/Change, VA Form 29-0309.

OMB Control Number: 2900-0665.

Type of Review: Reinstatement of a previously approved collection.

Abstract: Claimants complete VA Form 29-0309 authorizing VA to initiate direct deposit of insurance benefit at their financial institution.

An agency may not conduct or sponsor, and a person is not required to respond to a collection of information unless it displays a currently valid OMB control number. The Federal Register Notice with a 60-day comment period soliciting comments on this collection of information was published at 86 FR 77 on April 23, 2021, page 21808.

Affected Public: Individuals and Households.

Estimated Annual Burden: 10,000.

Estimated Average Burden per Respondent: 20 minutes.

Frequency of Response: On occasion.

Estimated Number of Respondents: 30,000.

By direction of the Secretary.
Dorothy Glasgow,
VA PRA Clearance Officer, (Alternate), Office of Enterprise and Integration, Data Governance Analytics, Department of Veterans Affairs.

[FR Doc. 2021-13308 Filed 6-23-21; 8:45 am]

BILLING CODE 8320-01-P